NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIMES AND DATE: November 8, 2017 from 8:30 a.m. to 4:30 p.m., and November 9, 2017 from 8:00 a.m. to 2:00 p.m. EST.

PLACE: These meetings will be held at the NSF headquarters, 2415 Eisenhower Avenue, Alexandria, VA 22314. Please note the new address. Meetings are held in the boardroom on the 2nd floor. All visitors must contact the Board Office (call 703-292-7000 or send an email to nationalsciencebrd@nsf.gov) at least 24 hours prior to the meeting and provide your name and organizational affiliation. Visitors must report to the NSF visitor's desk in the building lobby to receive a visitor's badge. Due to recent security changes, visitors should allot extra time for the entrance process.

STATUS: Some of these meetings will be open to the public. Others will be closed to the public. See full description below.

MATTERS TO BE CONSIDERED:

Wednesday, November 8, 2017

Plenary Board Meeting

Open Session: 8:30-9:00 a.m.

• NSB Chair's Opening Remarks

• NSF Director's Remarks

• Update on DC Meetings and Louisiana Visit

Committee on Strategy (CS)

Open Session: 9:00-10:30 a.m.

• Committee Chair's Opening Remarks

• Approval of Prior Minutes

• FY 2018 Budget Request Update

• Windows on the Universe Big Idea Briefing

• Directorate of Engineering Portfolio Briefing

Committee on Awards and Facilities (A&F)

Open Session: 10:45-11:45 a.m.

• Committee Chair's Opening Remarks

• Approval of Prior Minutes

• CY 2017 Schedule of Planned Action and Information Items

• CY 2018 Schedule of Planned Action and Information Items

• Oversight for Major Research Facilities

• Facility Portal and Facilities Plan Future Directions

Committee on Oversight (CO)

Open Session: 1:00-2:00 p.m.

• Committee Chair's Opening Remarks

• Approval of Prior Minutes

• Review of OIG Semiannual Report and NSF Management Tables

• Inspector General's Update

• Brief Description of Oversight.gov

• Presentation of Annual Audit Plan

• Chief Financial Officer's Update

• Relocation Report

Committee on Strategy (CS)

Closed Session: 2:00-2:45 p.m.

• Committee Chair's Opening Remarks

• Approval of Prior Minutes

• FY 2019 OMB Budget Submission Update

Committee on Awards and Facilities (A&F)

Closed Session: 3:00-4:30 p.m.

• Committee Chair's Opening Remarks

• Approval of Prior Minutes

• Ocean Observatories Initiative (OOI) Operations and Management

• Seismological Facilities for the Advancement of Geoscience and EarthScope (SAGE) and Geodesy Advancing Geosciences and EarthScope (GAGE)

• Information Item: NSF's Center for Optical-Infrared Astronomy (NCOA)

• Action Item: Arecibo Observatory Record of Decision

• Astronomy Facilities Divestment Planning

MATTERS TO BE DISCUSSED

Thursday, November 9, 2017

Committee on National Science and Engineering Policy (SEP)

Open Session: 8:00-9:00 a.m.

• Committee Chair's Opening Remarks

• Approval of Prior Minutes

• Discussion and Consideration of the draft S&E Indicators 2018 Overview and Digest

• Discussion of Policy Companion Statement to S&E Indicators 2018 Topics

Committee on External Engagement (EE)

Open Session: 9:00-10:00 a.m.

• Committee Chair's Opening Remarks

• Approval of Prior Minutes

• Update on Recent and Upcoming Activities

• S&E Indicators 2018 Rollout Planning

• Strategic Engagement Goals for 2018 and Beyond

Plenary Board

Closed Session: 10:15-10:30 a.m.

• Board Chair's Opening Remarks

• Director's Remarks

• Approval of Prior Minutes

• Closed Committee Reports

• Vote: Arecibo Observatory Record of Decision

Plenary Board (Executive)

Closed Session: 10:30-11:30 a.m.

• Board Chair's Opening Remarks

• Approval of Prior Minutes

• Director's Remarks

• Award Involving an NSB Member

• Presentation of Nomination Slate for the Class of 2024

• Presentation of 2018 Honorary Award Nominations

Plenary Board

Open Session: 11:30 a.m.-12:00 p.m.

• Board Chair's Opening Remarks

• Discussion and Consideration of a Charge to the Task Force on the Skilled Technical Workforce

Plenary Board

Open Session Continues: 1:00-2:00 p.m.

• Board Chair's Opening Remarks

• Approval of Prior Minutes

• NSF Director's Remarks

• Open Committee Reports

• Votes:

• Facility Plan

• S&E Indicators 2018 Overview

• S&E Indicators 2018 Digest

• NSF's Efforts Related to Risk Management

• Board Chair's Closing Remarks

Meeting Adjourns: 2:00 p.m.

MEETINGS THAT ARE OPEN TO THE PUBLIC:

November 8, 2017

8:30-9:00 a.m. Plenary NSB Introduction

9:00-10:30 a.m. Committee on Strategy (CS)

10:45-11:45 a.m. Awards & Facilities Committee (AF)

1:00-2:00 p.m. Committee on Oversight (CO)

November 9, 2017

8:00-9:00 a.m. Committee on National Science and Engineering Policy (SEP)

9:00-10:00 a.m. Committee on External Engagement (EE)

11:30 a.m.-12:00 p.m., 1:00-2:00 p.m. Plenary

MEETINGS THAT ARE CLOSED TO THE PUBLIC:

November 8, 2017

2:00-2:45 p.m. (CS)

3:00-4:30 p.m. (A&F)

November 9, 2017

10:15-10:30 a.m. Plenary

10:30-11:30 a.m. Plenary Executive

SUPPLEMENTARY INFORMATION: Public meetings and public portions of meetings held in the 2nd floor boardroom will be webcast. To view these meetings, go to: http://www.tvworldwide.com/events/nsf/171108 and follow the instructions. The public may observe public meetings held in the boardroom. The address is 2415 Eisenhower Avenue, Alexandria, VA 22314. Contact the Board Office (call 703-292-7000 or send an email to nationalsciencebrd@nsf.gov) at least 24 hours prior to the meeting to obtain a badge for entry. Report to the NSF visitor's desk in the building lobby for a visitor's badge.

Please refer to the NSB Web site for additional information. You will find any updated meeting information and schedule updates (time, place, subject matter, or status of meeting) at https://www.nsf.gov/nsb/meetings/notices.jsp#sunshine.

The NSB will continue its program to provide some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15. Arrive at the NSB boardroom or check the webcast 15 minutes before the scheduled start time of the meeting you wish to observe. Members of the public are invited to provide feedback on the flexible scheduling. Contact: nationalsciencebrd@nsf.gov.

Contact Persons for More Information: The NSB Office contact is Brad Gutierrez, bgutierr@nsf.gov, 703-292-7000. The Public Affairs contact is Nadine Lymn, nlymn@nsf.gov, 703-292-2490.

Chris Blair,
Executive Assistant, National Science Board Office.

[FR Doc. 2017-24105 Filed 11-1-17; 4:15 pm]

BILLING CODE 7555-01-P